LIBRARY OF CONGRESS

Copyright Office

37 CFR Parts 201 and 251

[Docket No. RM 2005-8]

Copyright Rules and Regulations: Statements of Account

AGENCY: Copyright Office, Library of Congress.

ACTION: Final rule; Technical amendments.

SUMMARY: The Copyright Office has conducted the annual review of its regulations and found non-substantive errors. This document makes technical amendments to correct those errors.

EFFECTIVE DATE: July 1, 2005.

FOR FURTHER INFORMATION CONTACT: Tanya Sandros, Associate General Counsel, Copyright GC/I&R, PO Box 70400, Southwest Station, Washington DC 20024. Telephone: (202) 707-8380. Fax: (202) 707-8366.

SUPPLEMENTARY INFORMATION: The Copyright Office has completed its annual review of Copyright Office regulations, and by this document, adopts amendments to correct non-substantive errors in the text of the regulations.

List of Subjects

37 CFR Part 201

Copyright.

37 CFR Part 251

Administrative practice and procedure, Hearing and appeal procedures.

Final Regulations

In consideration of the foregoing, the Copyright Office is amending part 201 of 37 CFR as follows:

PART 201-GENERAL PROVISIONS

1. The authority citation for part 201 continues to read as follows:

Authority: 17 U.S.C. 702.

§ 201.4 [Amended]

2. Section 201.4 (a)(1)(ii) is amended as follows:

a. By removing “,” after “account”;

b. By adding “and satellite carriers and for digital audio recording devices and media” after “systems”;

c. By adding “,119(b) and 1003(c)” after “111(d)”.

d. By adding “; 201.28” after “201.17”.

§ 201.11 [Amended]

3. In § 201.11, newly redesignated paragraph (h), published at 70 FR 30366, May 26, 2005, and which becomes effective on July 1, 2005, is amended by removing “paragraph (g)” and adding “paragraph (h)” in its place each place it appears.

§ 201.17 [Amended]

4. In § 201.17, newly redesignated paragraph (k), published at 70 FR 30367, May 26, 2005, and which becomes effective on July 1, 2005, is amended by removing “paragraph (j)” and adding “paragraph (k)” in its place each place it appears.

§ 201.28 [Amended]

5. In § 201.28, newly redesignated paragraph (i), published at 70 FR 30367, May 26, 2005, and which becomes effective on July 1, 2005, is amended by removing “paragraph (h)” and adding “paragraph (i)” in its place each place it appears.

PART 251—COPYRIGHT ARBITRATION ROYALTY PANEL RULES OF PROCEDURE

§ 251.22 [Amended]

6. In § 251.22(b), add “appropriate” after “Office at the”.

Dated: June 27, 2005.
David O. Carson,
General Counsel.

[FR Doc. 05-12955 Filed 6-30-05; 8:45 am]

BILLING CODE 1410-33-S